DEPARTMENT OF VETERANS AFFAIRS

[OMB Control No. 2900-0849]

Agency Information Collection Activity Under OMB Review: Alternate Signer Certification

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0849.”

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0849” in any correspondence.

SUPPLEMENTARY INFORMATION:

Authority: Public Law 112-154 Section 502, 38 U.S.C. 5101.

Title: Alternate Signer Certification (VA Form 21-0972).

OMB Control Number: 2900-0849.

Type of Review: Revision of a currently approved collection.

Abstract: VA Form 21-0972 is used to collect the alternate signer information necessary for VA to accept benefit application forms signed by individuals on behalf of Veterans and claimants. The information collected is used to contact the alternate signer for verification purposes. Without this information, VA would be unable to verify information related to the alternate signer who has been appointed to represent the claimant in the prosecution of VA claims, the extent of such representation, and access to appropriate records.

No changes have been made to this form. The respondent burden has increased due to the estimated number of receivables averaged over the past year.

An agency may not conduct or sponsor, and a person is not required to respond to a collection of information unless it displays a currently valid OMB control number. The Federal Register Notice with a 60-day comment period soliciting comments on this collection of information was published at XX FR XXX on XXXXX XX, 202X, pages XXXX and XXXX.

Affected Public: Individuals and households.

Estimated Annual Burden: 4,644 hours.

Estimated Average Burden per Respondent: 15 minutes.

Frequency of Response: One time.

Estimated Number of Respondents: 18,575.

By direction of the Secretary.
Maribel Aponte,
VA PRA Clearance Officer, Office of Enterprise and Integration, Data Governance Analytics, Department of Veterans Affairs.

[FR Doc. 2023-00585 Filed 1-12-23; 8:45 am]

BILLING CODE 8320-01-P